DEPARTMENT OF STATE

[Public Notice: 6828]

Meeting of Advisory Committee on the Secretary of State's Strategic Dialogue With Civil Society

ACTION: Notice of meeting.

SUMMARY: Pursuant to the provisions of the Federal Advisory Committee Act (FACA), the Advisory Committee on the Secretary of State's Strategic Dialogue With Civil Society will convene in Washington, DC on January 17, 2012. The Committee provides advice on the formulation of U.S. policies, proposals, and strategies for engagement with, and protection of, civil society worldwide. The objective of this meeting is to review the progress of the Committee's five subcommittees. The meeting is open to the public and will be streamed live at https://statedept.connectsolutions.com/csenglish.

DATES: The meeting will be held on January 17, 2012, from 10 a.m. to 11:30 a.m.

ADDRESSES: The meeting will be held at the U.S. Department of State, Room 1107, 2201 C Street NW., Washington, DC This meeting is open to public participation, though seating is limited. Entry to the building is controlled. To obtain pre-clearance for entry provide, by January 11, your name, professional affiliation, valid government-issued ID number, passport number and country of issuance, or driver's license number and state of issuance, date of birth, and citizenship to Dara Duncan via email to civilsociety@state.gov or facsimile to (202) 736-7961. One of the following forms of valid photo identification will be required for entry into the meeting: U.S. driver's license, U.S. Government identification card, or any valid passport. Enter the Department of State from the entrance on C Street. In view of escorting requirements, non-Government attendees should plan to arrive 15 minutes before the meeting begins.

Written comments may also be submitted to Dara Duncan via the contact information above. All comments, including names and addresses when provided, are placed in the record and are available for inspection and copying. The public may inspect comments received at the U.S. Department of State, 2201 C Street NW., Room 1317, Washington, DC 20520. Please call ahead to (202) 736-7824 to facilitate entry into the building.

FOR FURTHER INFORMATION CONTACT: Dara Duncan, Committee Executive Secretary, U.S. Department of State, 2201 C Street, NW., Room 1317, Washington, DC 20520; (202) 736-7824; fax (202) 736-7961; civilsociety@state.gov.

Individuals who use telecommunication devices for the deaf (TDD) may call the Federal Information Relay Service (FIRS) at 1 (800) 877-8339 between 8 a.m. and 8 p.m., Eastern Standard Time, Monday through Friday. Requests for reasonable accommodation for access to the facility or proceedings may be made by contacting Dara Duncan at the contact information provided above prior to January 2. Requests made after that date will be considered, but might not be possible to fulfill.

SUPPLEMENTARY INFORMATION: The meeting is open to the public and will be streamed live at: https://statedept.connectsolutions.com/csenglish. Agenda items to be covered include: (1) Introductions, (2) Presentations by the Chairs of the Subcommittees, (3) Public Comment, (4) General Discussion, (5) Adjournment. Anyone who would like to bring related matters to the attention of the Committee may file written statements with the Committee staff. The agenda will allow time for people to make oral statements of two minutes or less. Individuals wishing to make an oral statement should submit this request in writing by January 2, 2012 to be scheduled on the agenda. Written comments and requests of time for oral comments must be sent to Dara Duncan, Committee Executive Secretary, at the contact information provided above.

Personal data is requested for building entry pursuant to Pub. L. 99-399 (Omnibus Diplomatic Security and Antiterrorism Act of 1986), as amended; Pub. L. 107-56 (USA PATRIOT Act); and Executive Order 13356. The purpose of the collection is to validate the identity of individuals who enter Department facilities. The data will be entered into the Visitor Access Control System (VACS-D) database. Please see the Privacy Impact Assessment for VACS-D at http://www.state.gov/documents/organization/100305.pdf for additional information.

Dated: December 5, 2011.
Dara Duncan,
Policy Coordinator, U.S. Department of State.

[FR Doc. 2011-31985 Filed 12-12-11; 8:45 am]

BILLING CODE 4710-10-P